DEPARTMENT OF HOUSING AND URBAN DEVELOPMENT

[Docket No. FR-4739-N-32]

Notice of Proposed Information Collection: Comment Requested; Mortagee's Request for Extension of Time

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: September 23, 2002.

ADDRESSES: Interested persons are invited to submit comments regarding this proposal. Comments should refer to the proposal by name and/or OMB Control Number and should be sent to: Wayne Eddins, Reports Management Officer, Department or Housing and Urban Development, 451 7th Street, SW, L'Enfant Plaza Building, Room 800a, Washington, DC 20410. E-mail Wayne_Eddins@HUD.gov.

FOR FURTHER INFORMATION CONTACT: Charlene Weaver, Mortgage Servicing Specialist, HUFA, Department of Housing and Urban Development, 451 Seventh Street, Southwest, Washington, DC 20410; e-mail Charlene r. weaver@hud.gov, telephone (202) 708-1672 (this is not a toll-free number) for copies of the proposed forms and other available information.

SUPPLEMENTARY INFORMATION: The Department will submit the proposed information collection to OMB for review, as required by the Paperwork Reduction Act of 1995 (44 U.S.C. chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Mortgagee's Request for Extension.

OMB Control Number, if applicable: 2502-0436.

Description of the need for the information and proposed use: In the event of default and foreclosure of an insured mortgage, the mortgagee is entitled to receive insurance benefits plus interest on such benefits from the date of default to the date of payment of the insurance benefits. HUD regulations require that the mortgagee take certain actions within specific time limitations. Failure to meet such limitations may result in curtailment of interest payments. Information collected here allows the Department to evaluate requests for extension of the regulatory time limits within which specific foreclosure processing steps must be taken, as respond to these requests.

Agency form numbers, if applicable: HUD-50012.

Estimation of the total number of hours needed to prepare the information collection including number of respondents, frequency of response, and hours of response: An estimation of the total numbers of hours needed to prepare the information collection is, 3,000, number of respondents is 2000, frequency of response is on occasion, and the hours per response is .15.

Status of the proposed information collection: Reinstatement with change, of previously approved collection for which approval has expired.

Authority: Section 3506 of the Paperwork Reduction Act of 1995, 44 U.S.C. chapter 35, as amended.

Dated: July 16, 2002.
Sean G. Cassidy,
General Deputy Assistant Secretary for Housing-Deputy Federal Housing Commissioner.

[FR Doc. 02-18599 Filed 7-22-02; 8:45 am]

BILLING CODE 4210-27-M